NUCLEAR REGULATORY COMMISSION

10 CFR Parts 20, 26, 50, 51, 52, 72, 73, and 140

[NRC-2015-0070]

RIN 3150-AJ59

Regulatory Improvements for Production and Utilization Facilities Transitioning to Decommissioning: Correction

AGENCY: Nuclear Regulatory Commission.

ACTION: Proposed rule; correction.

SUMMARY: The U.S. Nuclear Regulatory Commission (NRC) is correcting a proposed rule that was published in the Federal Register on March 3, 2022. The proposed rule would amend the NRC's regulations that relate to the decommissioning of production and utilization facilities to maintain a safe, effective, and efficient decommissioning process; reduce the need for license amendment requests and exemptions from existing regulations; address other decommissioning issues deemed relevant by the NRC; and support the NRC's Principles of Good Regulation. This action is necessary to correct a reference.

DATES: The correction takes effect on May 6, 2022.

ADDRESSES: Please refer to Docket ID NRC-2015-0070 when contacting the NRC about the availability of information for this action. You may obtain publicly-available information related to this action by any of the following methods:

• Federal Rulemaking Website: Go to https://www.regulations.gov and search for Docket ID NRC-2015-0070. Address questions about NRC dockets to Dawn Forder; telephone: 301-415-3407; email: Dawn.Forder@nrc.gov.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov.

• NRC's PDR: You may examine and purchase copies of public documents, by appointment, at the PDR, Room P1 B35, One White Flint North, 11555 Rockville Pike, Rockville, Maryland 20852. To make an appointment to visit the PDR, please send an email to pdr.resource@nrc.gov or call 1-800-397-4209 or 301-415-4737, between 8:00 a.m. and 4:00 p.m. (ET), Monday through Friday, except Federal holidays.

FOR FURTHER INFORMATION CONTACT: Dawn Forder, Office of Nuclear Material Safety and Safeguards; U.S. Nuclear Regulatory Commission, Washington, DC 20555-0001; telephone: 301-415-3407, email: Dawn.Forder@nrc.gov.

SUPPLEMENTARY INFORMATION:

Correction

In the Federal Register (FR) on March 3, 2022, in proposed rule FR Doc. 2022-03131, the following corrections are made:

1. On page 12301, under “O. Removal of License Conditions and Withdrawal of Orders,” in the center column, beginning with the first full sentence through the end of the paragraph, the text is corrected to read, “The Mitigation of Beyond-Design-Basis Events rule subsequently moved § 50.54(hh)(2) to § 50.155(b)(2). As a result, neither Order EA-06-137 nor the license condition is necessary. Accordingly, the NRC proposes finding that good cause is shown to rescind Order EA-06-137 for each licensee that received the order. In addition, because § 50.155(b)(2) provides the same requirements as the license condition associated with Order EA-06-0137, the NRC proposes deeming the license condition removed from each applicable nuclear power reactor license.”

2. On page 12301, under “O. Removal of License Conditions and Withdrawal of Orders,” in the center column, beginning with the last sentence through the third column, end of the first paragraph, the text is corrected to read, “Because licensees comply with both the regulations and Mitigation Strategy License Condition via the same guidance, such that the former § 50.54(hh)(2) requirements encompass the license condition requirements, the NRC proposes concluding that § 50.155(b)(2) fully replaces the requirements that exist in the Mitigation Strategy License Condition and deeming that the Mitigation Strategy License Conditions imposed in 2007 are removed from the licenses for those licensees that received that license condition.”

Dated: May 3, 2022.
Cindy K. Bladey,
Chief, Regulatory Analysis and Rulemaking Support Branch, Division of Rulemaking, Environmental, and Financial Support, Office of Nuclear Material Safety and Safeguards.

[FR Doc. 2022-09832 Filed 5-5-22; 8:45 am]

BILLING CODE 7590-01-P